DEPARTMENT OF TRANSPORTATION

Pipeline and Hazardous Materials Safety Administration

[Docket No. PHMSA-2008-0211]

Information Collection Activities

AGENCY: Pipeline and Hazardous Materials Safety Administration.

ACTION: Notice; extension of comment period.

SUMMARY: PHMSA is extending the period for public comment to its Federal Register Notice issued on September 4, 2008 (73 FR 51697) that proposes to revise forms PHMSA F 7100.2—Incident Report for Gas Transmission and Gathering Systems; PHMSA F 7100.1—Incident Report for Gas Distribution Systems; and PHMSA F 7000-1—Accident Report for Hazardous Liquid Pipeline Systems.

DATES: Interested parties are invited to submit comments on or before December 12, 2008.

ADDRESSES: Comments should reference Docket No. PHMSA-2008-0211 and may be submitted in the following ways:

• E-Gov Web Site: http://www.regulations.gov. This site allows the public to enter comments on any Federal Register notice issued by any agency.

• Fax: 1-202-493-2251.

• Mail: DOT Docket Operations Facility (M-30), U.S. Department of Transportation, West Building, 1200 New Jersey Avenue, SE., Washington, DC 20590.

• Hand Delivery: DOT Docket Operations Facility, U.S. Department of Transportation, West Building, Room W12-140, 1200 New Jersey Avenue, SE., Washington, DC 20590 between 9 a.m. and 5 p.m., Monday through Friday, except Federal holidays.

Instructions: In the E-Gov Web site: http://www.regulations.gov, access the Notice of Proposed Rulemaking by typing “PHMSA-2008-0211” under “Search Documents” and clicking “Go.” Submit your comment by clicking the yellow bubble or “Send a Comment or Submission” then following the instructions.

Identify docket number PHMSA-2008-0211 at the beginning of your comments. For comments by mail, please provide two copies. To receive PHMSA's confirmation receipt, include a self-addressed stamped postcard. Internet users may access all comments at http://www.regulations.gov, by searching for the docket number.

Note: PHMSA will post all comments without changes or edits to http://www.regulations.gov including any personal information provided.

FOR FURTHER INFORMATION CONTACT: Roger Little by telephone at 202-366-4569, by fax at 202-366-4566, or by mail at U.S. Department of Transportation, Pipeline and Hazardous Materials Safety Administration, 1200 New Jersey Avenue, SE., PHP-10, Washington, DC 20590-0001.

SUPPLEMENTARY INFORMATION: In response to requests for extension of the comment period made by trade association representatives from the Interstate Natural Gas Association of America, the American Petroleum Institute, the Association of Oil Pipelines and the American Gas Association, PHMSA is extending the comment period until December 12, 2008.

Issued in Washington, DC, on October 23, 2008.
Jeffrey D. Wiese,
Associate Administrator for Pipeline Safety.

[FR Doc. E8-25846 Filed 10-29-08; 8:45 am]

BILLING CODE 4910-60-P